DEPARTMENT OF EDUCATION

Office of Special Education and Rehabilitative Services; Report of the Findings and Recommendations of the President's Commission on Excellence in Special Education

AGENCY: Office of Special Education and Rehabilitative Services, Department of Education.

ACTION: Notice of request for public comment on the Report of the President's Commission on Excellence in Special Education.

SUMMARY: The Secretary of Education invites written comments from the public on the Report of the Findings and Recommendations of the President's Commission on Excellence in Special Education.

DATES: Comments must be received on or before August 19, 2002.

ADDRESSES: Address all comments concerning the Commission Report to Thomas Irvin, Office of Special Education and Rehabilitative Services, U.S. Department of Education.

Due to recent problems with the receipt of surface mail, we encourage you to use either the Internet or Facsimile Transmission (Fax), as follows, to submit your comments, in order to ensure that the comments are received for consideration by the Department:

Internet. Comments submitted through the Internet should be sent to the following address: Comments@ed.gov.

You must use the term “Commission Report on Special Education” in the subject line of your electronic message.

Facsimile Transmission (Fax). If you prefer, you may send your comments by Fax to (202) 260-0416.

If neither the Internet nor Fax are available to you, you may submit your comments via surface mail to: Office of Special Education and Rehabilitative Services, U.S. Department of Education, 400 Maryland Avenue, SW., Mary E. Switzer Building, Room 3086, Washington DC 20202.

To ensure that we do not receive duplicate copies of comments, please submit your comments only one time—using either the Internet or Fax, or, if necessary, surface mail.

FOR FURTHER INFORMATION CONTACT: JoLeta Reynolds (202) 205-5507 (Press 3). If you use a telecommunications device for the deaf (TTD) you may call the Federal Information Relay Service (FIRS) number at 1-800-877-8339.

Individuals with disabilities may obtain this document in an alternative format (e.g., Braille, large print, audiotape, or computer diskette) on request to Katie Mincey, Director of the Alternate Formats Center. Telephone: (202) 205-8113.

SUPPLEMENTARY INFORMATION:

Background

On October 2, 2001, the President established the President's Commission on Excellence in Special Education (Commission) under Executive Order 13227. The Commission was established to recommend policies for improving the educational performance of students with disabilities, and its work was intended to inform the process for preparing for the reauthorization of the Individuals with Disabilities Education Act (IDEA).

The Commission's final report was submitted to the President on July 1, 2002, and is currently posted on the following Web site: http://www.ed.gov/inits/commissionsboards/whspecialeducation/.

Public comment on the Commission Report will assist the Department as it formulates its proposals for the reauthorization of the IDEA.

Invitation to Comment: We invite your comments on the Commission's findings and recommendations and on the entire Report written by the Commission.

In submitting your comments, please identify whether you are involved in special education, regular education or early intervention, as well as your role, if any, in that area (e.g., parent, teacher, service provider, administrator, or researcher).

Thank you for your interest in achieving excellence in special education.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO access at: http://www.access.gpo.gov/nara/index.html.

Program Authority: 20 U.S.C. 1400 et seq.

Dated: July 12, 2002.
Robert H. Pasternack,
Assistant Secretary for Special Education and Rehabilitative Services.

[FR Doc. 02-18165 Filed 7-17-02; 8:45 am]

BILLING CODE 4000-01-P